DEPARTMENT OF TRANSPORTATION

Federal Aviation Administration

Public Notice for a Change in Use of Aeronautical Property at Cincinnati/Northern Kentucky International Airport, Hebron, KY

AGENCY: Federal Aviation Administration (FAA), DOT.

ACTION: Request for public comment.

SUMMARY: Under the provisions of title 49, U.S.C. Section 47153(c), the Federal Aviation Administration is requesting public comment on the Kenton County Airport Board's request to trade a portion (1.5 acres) of airport property to V.H. Florence, LLC for a portion (1.5 acres) of V.H. Florence, LLC property effectively changing the airport portion from aeronautical use to non-aeronautical use and changing the V.H. Florence, LLC from non-aeronautical use to an aeronautical use. The property is to be traded to V.H. Florence, LLC, Florence, Kentucky for a “Walmart” development project.

The Kenton County Airport Board's 1.5 acres is located on the southern boundary of Cincinnati/Northern Kentucky International Airport; is a portion of a 238.774 acre parcel; and has no direct access except through adjoining airport property or adjacent V.H. Florence, LLC property, Boone County, Kentucky. The V.H. Florence, LLC's 1.5 acres is located on the southern boundary of Cincinnati/Northern Kentucky International Airport; and has no direct access except through adjoining V.H. Florence, LLC property or adjacent airport property, Boone County, Kentucky.

DATES: Comments must be received on or before January 11, 2006.

ADDRESSES: Comments on this notice may be mailed or delivered in triplicate to the FAA at the following address: Memphis Airports district Office, 2862 Business Park Drive, Building G, Memphis, TN 38118-1555.

In addition, one copy of any comments submitted to the FAA must be mailed or delivered to Ms. Barbara Schempf, Governmental Affairs/Noise Abatement Manager, Kenton County Airport Board at the following address: 2939 Terminal Drive, 2nd Floor Terminal 1, Hebron, Kentucky 41048.

FOR FURTHER INFORMATION CONTACT: Jerry O. Bowers, Airports Program Manager, Memphis Airports District Office, 2862 Business Park Drive, Building G, Memphis, TN 38118-1555, (901) 322-8184. The application may be reviewed in person at this same location.

SUPPLEMENTARY INFORMATION: The FAA is reviewing a request by the Kenton County Airport Board to trade 1.5 acres of aeronautical property at Cincinnati/Northern Kentucky International Airport, Hebron, Kentucky. The property will be traded to V.H. Florence, LLC for a “Walmart” development project. The appraised value of the Kenton County Airport Board's 1.5 acres is $37,500. The appraised value of V.H. Florence, LLC's 1.5 acres is $37,500. The net difference in appraised values is zero. A detailed legal description of the property proposed for release can be requested or seen at either of the contacts given above. However, the general description of both 1.5 acre parcels are located on the southern boundary of Cincinnati/Northern Kentucky International Airport; in close proximity to Turfway and Houston Roads; both parcels have no direct access and are both located adjacent to airport and V.H. Florence, LLC Properties, Boone County, Kentucky.

Any person may inspect the request in person at the FAA office listed above under FOR FURTHER INFORMATION CONTACT. In addition, any person may, upon request, inspect the request, notice and other documents germane to the request in person at the Kenton County Airport Board's office on Cincinnati/Northern Kentucky International Airport, Hebron, Kentucky.

Issued in Memphis, Tennessee, on December 2, 2005.
Phillip J. Braden,
Manager, Memphis Airports District Office, Southern Region.

[FR Doc. 05-23891 Filed 12-9-05; 8:45 am]

BILLING CODE 4910-13-M